DEPARTMENT OF ENERGY

Federal Energy Regulatory Commission

[Project No. 12879-000]

Hydro Green Energy, LLC; Notice of Preliminary Permit Application Accepted for Filing and Soliciting Comment, Motions To Intervene, and Competing Applications

July 9, 2008.

On July 24, 2007, Hydro Green Energy, LLC filed an application, pursuant to section 4(f) of the Federal Power Act, proposing to study the feasibility of the “Alaska 31” Project, located in the Kuskokwim River, in Bethel Borough, Alaska.

The proposed project would consist of: (1) 5 arrays, each consisting of ten 100 kilowatt hydrokinetic turbine units, for a total installed capacity of 5 megawatts, (2) a proposed 2000-foot-long, 13.6-kilovolt transmission line, and (3) appurtenant facilities. The project is estimated to have an annual generation of 32.872 gigawatthours, which would be sold to a local utility.

Applicant Contact: Wayne Krouse, Hydro Green Energy LLC, 5090 Richmond Avenue #390, Houston, TX 77056; phone: 877-556-6566.

FERC Contact: Kelly Houff, 202-502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-12879) in the docket number field to access the document. For assistance, call toll-free 1-866-208-3372.

Kimberly D. Bose,
Secretary.

[FR Doc. E8-16202 Filed 7-15-08; 8:45 am]

BILLING CODE 6717-01-P